DEPARTMENT OF AGRICULTURE

Foreign Agricultural Service

Trade Adjustment Assistance for Farmers

AGENCY: Foreign Agricultural Service, USDA.

ACTION: Notice.

The Administrator, Foreign Agricultural Service (FAS), today accepted a petition filed by the Spokane Hutterian Brethren, Reardan, Washington 99029, for trade adjustment assistance for seed potato producers in the state of Washington. The Administrator will determine within 40 days whether or not increasing seed potato imports contributed importantly to a decline in domestic producer prices of 20 percent or more during the marketing period beginning February 2004 and ending May 2004. If the determination is positive, all producers who market their seed potatoes in Washington will be eligible to apply to the Farm Service Agency for technical assistance at no cost and for adjustment assistance payments.

FOR FURTHER INFORMATION CONTACT: Jean-Louis Pajot, Coordinator, Trade Adjustment Assistance for Farmers, FAS, USDA, (202) 720-2916, e-mail: trade.adjustment@fas.usda.gov.

Dated: January 6, 2005.
A. Ellen Terpstra,
Administrator, Foreign Agricultural Service.

[FR Doc. 05-1082 Filed 1-19-05; 8:45 am]

BILLING CODE 3410-10-P